DEPARTMENT OF HOUSING AND URBAN DEVELOPMENT

[Docket No. FR-7070-N-79]

30-Day Notice of Proposed Information Collection: Public Housing Capital Fund Program, OMB Control No.: 2577-0157

AGENCY: Office of Policy Development and Research, Chief Data Officer, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: December 1, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal and comments should refer to the proposal by name and/or OMB Control Number and should be sent to: Colette Pollard, Clearance Officer, REE, Department of Housing and Urban Development, 451 7th Street SW, Room 8210, Washington, DC 20410; email PaperworkReductionActOffice@hud.gov.

FOR FURTHER INFORMATION CONTACT: Colette Pollard, Reports Management Officer, REE, Department of Housing and Urban Development, 451 7th Street SW, Washington, DC 20410; email Colette.Pollard@hud.gov or telephone (202) 402-3400. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on February 14, 2023 at 88 FR 9530.

A. Overview of Information Collection

Title of Information Collection: Public Housing Capital Fund Program.

OMB Approval Number: 2577-0157.

Type of Request: Extension of currently approved collection.

Form Numbers: HUD Form 50075.1, HUD-5084, HUD-5087, HUD-50071, HUD-50075.1, HUD-51000, HUD-51001, HUD-51002, HUD-51003, HUD-5104, HUD-51915, HUD-51915-A, HUD-51971-I, HUD 51971-II, HUD-52396, HUD-52427, HUD-52482, HUD-52483-A, HUD-52484, HUD-52485, HUD-52651-A, HUD-52828, HUD-52829, HUD-52830, HUD-52833, HUD-52845, HUD-52846, HUD-52847, HUD-52849, HUD-53001, HUD-53015, HUD-5370-C1, HUD-5370-C2, HUD-5370EZ, HUD-5372, HUD-5378, and HUD-5460.

Description of the need for the information and proposed use: Each year Congress appropriates funds to approximately 3,015 Public Housing Authorities (PHAs) for modernization, development, financing, and management improvements. The funds are allocated based on a complex formula. The forms in this collection are used to appropriately disburse and utilize the funds provided to PHAs. Additionally, these forms provide the information necessary to approve a financing transaction in addition to any Capital Fund Financing transactions. Respondents include the approximately 3,015 PHA receiving Capital Funds and any other PHAs wishing to pursue financing.

Respondents: Public Housing Authorities.

Information collection | Number of respondents | Frequency of response | Responses per annum | Burden hour per response | Annual burden hours | Hourly cost per response | Annual cost
HUD-5084 | 2,771 | 1 | 2,771 | 1.5 | 4,156 | $34 | $141,321
HUD-5087 | 50 | 1 | 50 | 3 | 150 | 56 | 8,400
HUD-50071 | 10 | 1 | 10 | 0.5 | 5 | 56 | 280
HUD-50075.1 | 300 | 1 | 300 | 2.2 | 660 | 34 | 22,440
HUD-51000 | 590 | 1 | 590 | 1 | 590 | 34 | 20,060
HUD-51001 | 2,550 | 12 | 30,600 | 3.5 | 107,100 | 34 | 3,641,000
HUD-51002 | 1,600 | 5 | 8,000 | 1 | 8,000 | 34 | 272,000
HUD-51003 | 500 | 2 | 1,000 | 1.5 | 1,500 | 34 | 51,000
HUD-51004 | 500 | 2 | 1,000 | 2.5 | 2,500 | 34 | 85,000
HUD-51915 | 1,315 | 1 | 1,315 | 3 | 3,945 | 34 | 134,130
HUD-51915-A | 1,315 | 1 | 1,315 | 3 | 3,945 | 34 | 134,130
HUD-51971-I | 40 | 1 | 80 | 1.5 | 60 | 34 | 2,040
HUD-51971-II | 40 | 1 | 80 | 1.5 | 60 | 34 | 2,040
HUD-52396 | 96 | 1 | 96 | 2 | 192 | 34 | 6,528
HUD-52427 | 88 | 1 | 88 | 0.5 | 44 | 34 | 1,496
HUD-52482 | 40 | 1 | 40 | 2 | 80 | 34 | 2,720
HUD-52483-A | 40 | 1 | 40 | 2 | 80 | 34 | 2,720
HUD-52484 | 532 | 4 | 2,128 | 10 | 21,280 | 34 | 723,520
HUD-52485 | 40 | 1 | 40 | 1 | 40 | 34 | 1,360
HUD-52651-A | 40 | 1 | 40 | 2.5 | 100 | 34 | 3,400
HUD-52829 | 25 | 1 | 25 | 40 | 1,000 | 56 | 56,000
HUD-52830 | 25 | 1 | 25 | 16 | 400 | 56 | 22,400
HUD-52833 | 2,771 | 1 | 2,771 | 13 | 36,023 | 34 | 1,224,782
HUD-52836 | 10 | 1 | 10 | 0.5 | 5 | 56 | 280
HUD-52845 | 25 | 1 | 25 | 8 | 200 | 56 | 11,200
HUD-52846 | 25 | 1 | 25 | 16 | 400 | 56 | 22,400
HUD-52847 | 25 | 1 | 25 | 8 | 200 | 56 | 11,200
HUD-52849 | 25 | 1 | 25 | 1 | 25 | 56 | 1,400
HUD-53001 | 2,771 | 1 | 2,771 | 2.5 | 6,927 | 34 | 235,535
HUD-53015 | 40 | 1 | 40 | 3 | 120 | 34 | 4,080
HUD-5370 | 1,347 | 1 | 1,347 | 1 | 1,347 | 34 | 45,798
HUD-5370EZ | 1,347 | 1 | 1,347 | 1 | 1,347 | 34 | 45,798
HUD-5370C1 | 1,347 | 1 | 1,347 | 1 | 1,347 | 34 | 45,798
HUD-5370C2 | 1,347 | 1 | 1,347 | 1 | 1,347 | 34 | 45,798
HUD-5372 | 590 | 1 | 590 | 1 | 590 | 34 | 20,060
HUD-5378 | 158 | 24 | 3,792 | 0.25 | 948 | 34 | 32,232
HUD-5460 | 40 | 1 | 40 | 1 | 40 | 34 | 1,360
Public Housing Information Center Certification of Accuracy | 2,771 | 1 | 2,771 | 2 | 5,542 | 34 | 188,428
HUD-52828 Physical Needs Assessment form | 2,771 | 1 | 2,771 | 15 | 41,565 | 56 | 2,327,640
Broadband Feasibility determination | 2,771 | 1 | 2,771 | 10 | 27,710 | 34 | 942,140
SF-424 | 2,771 | 1 | 2,771 | 0 | 0 | 0 | 0
Totals |  |  |  |  | 281,570 |  | 10,539,914

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comments in response to these questions.

C. Authority

Section 3507 of the Paperwork Reduction Act of 1995, 44 U.S.C. Chapter 35.

Colette Pollard,
Department Reports Management Officer, Office of Policy Development and Research, Chief Data Officer.

[FR Doc. 2023-24079 Filed 10-31-23; 8:45 am]

BILLING CODE 4210-67-P